DEPARTMENT OF AGRICULTURE

Rural Utilities Service

Norborne Baseload Plant: Notice of Availability of Final Environmental Impact Statement

Correction

In notice document E7-13299 beginning on page 38559 in the issue of Friday, July 13, 2007, make the following correction:

On page 38559, In the second column, under the heading DATE, in the second line “August 9, 2007” should read “ August 13, 2007”.

[FR Doc. Z7-13299 Filed 8-1-07; 8:45 am]

BILLING CODE 1505-01-D